DEPARTMENT OF THE INTERIOR

Bureau of Land Management

[LLCON04000 L16100000.DP000]

Notice of Availability of the Final Environmental Impact Statement for Previously Issued Oil and Gas Leases in the White River National Forest, Colorado

AGENCY: Bureau of Land Management, Interior.

ACTION: Notice.

SUMMARY: In compliance with the National Environmental Policy Act of 1969, as amended (NEPA), the Bureau of Land Management (BLM) Colorado River Valley Field Office (CRVFO), located in Silt, Colorado, prepared a Final Environmental Impact Statement (EIS) that analyzes the environmental impacts of previous decisions to issue 65 leases on lands within the White River National Forest (WRNF) from 1995 to 2012.

DATES: The BLM will not issue a final decision on the proposal for a minimum of 30 days after the date that the Environmental Protection Agency publishes its Notice of Availability in the Federal Register.

ADDRESSES: Copies of the Previously Issued Oil and Gas Leases in the WRNF Final EIS are available for public inspection at the CRVFO, 2300 River Frontage Road, Silt, CO 81652. Interested persons may also review the Final EIS on the project Web site at http://www.blm.gov/co/st/en/fo/crvfo.html.

FOR FURTHER INFORMATION CONTACT: Greg Larson, Project Manager, at the address above, by telephone at 970-876-9000, or by email at glarson@blm.gov. Persons who use a telecommunications device for the deaf (TDD) may call the Federal Information Relay Service (FIRS) at 1-800-877-8339 to contact the above individual during normal business hours. The FIRS is available 24 hours a day, seven days a week, to leave a message or question with the above individual. You will receive a reply during normal business hours.

SUPPLEMENTARY INFORMATION: The BLM developed this EIS to address a NEPA deficiency identified by the Interior Board of Land Appeals (IBLA) related to the issuance of oil and gas leases on WRNF lands from 1995 to 2004. In 2007, the IBLA ruled that before including WRNF parcels in an oil and gas lease sale, the BLM must either formally adopt the NEPA analysis completed by the U.S. Forest Service (USFS) or conduct a NEPA analysis of its own (Board of Commissioners of Pitkin County, 173 IBLA 173 (2007)). The BLM canceled the three leases at issue in that case and has identified 65 additional leases with effective dates ranging from 1995 to 2012, which the BLM leased without either: (i) Adopting applicable USFS NEPA, or (ii) Preparing its own NEPA analysis. For these 65 existing leases, the most recent USFS decision to make these lands available for oil and gas leasing was analyzed in the 1993 USFS WRNF Oil and Gas Leasing EIS, which was reaffirmed in the 2002 WRNF Plan.

While the BLM obtained USFS consent before offering and subsequently issuing these 65 leases, it did not adopt the USFS' NEPA analysis or prepare its own analysis. As a result, the BLM determined that the issuance of the leases in question was not in compliance with applicable NEPA requirements, rendering the leases voidable. The BLM therefore determined that additional actions were necessary to either reaffirm, modify, or cancel those leases. As part of its determination of what additional action needs to be taken, the BLM determined that the WRNF NEPA analysis relevant to the 65 previously issued leases was no longer adequate due to changes in laws, regulations, policies and conditions since the earlier EIS was finalized in 1993. As a result, the BLM prepared this EIS, which analyzes the previous decisions to lease WRNF lands for oil and gas development.

Based on the analysis in the EIS, the BLM will determine whether these 65 leases should be cancelled, reaffirmed, or modified with additional or different terms. Distinct from this effort, the USFS has also been updating its 1993 Oil and Gas Leasing EIS to address future oil and gas leasing availability on the WRNF. The USFS released the Final EIS and Draft Record of Decision in December 2014. The Final USFS Record of Decision was signed in December 2015. The USFS EIS and ROD are forward-looking and do not directly affect the 65 previously issued leases; however, the information generated as part of that process was relevant to the BLM's analysis. As part of its process, the BLM has incorporated as much of the new USFS NEPA analysis of future oil and gas leasing on WRNF lands as possible into the BLM's analysis of the existing leases.

The BLM considered six alternatives in the Final EIS, including the No Action Alternative. The No Action Alternative would reaffirm the lease stipulations on the 65 leases as they were issued. Under this alternative, the BLM would take no action by continuing to administer the leases with their current stipulations. Alternative 2 would address inconsistencies in some of the existing leases by adding stipulations identified in the 1993 WRNF EIS that should have been but were not attached to eight leases when they were issued. Alternative 3 would modify the 65 leases to match the stipulations identified for future leasing in the 2014 USFS Final EIS Proposed Action. Alternative 4 would modify or cancel the 65 leases to match the stipulations and availability decision for future leasing identified in the 2014 USFS Draft Record of Decision. In areas the USFS identified as open to future leasing, lease stipulations would be modified to track those found in the most recent decisions, and all or part of 25 existing leases in areas identified as closed to future leasing would be cancelled. Alternative 5 would cancel all 65 leases.

For purposes of the Final EIS, the BLM identified a combination of Alternatives 2 and 4 as its Preferred Alternative. Under this alternative, the BLM would cancel in their entirety 25 leases that are not producing or committed to a unit or communitization agreement, and that overlap with the area identified as closed to future leasing by the USFS's Final Record of Decision (USFS 2015f). It would apply Alternative 4 stipulations (i.e., those that were identified in the 2015 USFS Record of Decision) to the 13 undeveloped leases that are within parts of the WRNF identified as open to future leasing, and would apply Alternative 2 stipulations (i.e., those identified in the 1993 WRNF EIS) to the 23 leases that are producing or committed to a unit agreement or communitization agreement. Four of these leases had previously been part of the Willow Creek Unit and are now expired. If the unit contraction associated with these 4 leases is overturned on appeal, those leases would be reauthorized and the Alternative 2 stipulations would apply. As with Alternative 4, the BLM would offer the lessee the option of either accepting the new stipulations or having the lease in question cancelled. For undeveloped leases, cancellation would be accomplished through a BLM process and would require that the BLM reimburse any bonus bids and rental payments.

The BLM developed this Preferred Alternative to address public comments and concerns submitted in response to the Draft EIS, while acknowledging recent decisions by the USFS governing future oil and gas leasing on the WRNF. The Preferred Alternative also recognizes the adverse economic impacts to local governments and technical challenges for the BLM associated with any decision to cancel producing or committed leases.

The Draft EIS was released on November 20, 2015 (80 FR 72733), for a 49-day public comment period. During that period, the BLM held three public meetings in communities near the project area: Glenwood Springs, DeBeque and Carbondale, Colorado. The BLM received 60,515 comments during the formal comment period. The BLM worked with cooperating agencies (including the Environmental Protection Agency; USFS; the Colorado Department of Natural Resources, including Colorado Parks and Wildlife; Garfield, Mesa, Pitkin and Rio Blanco counties; the Cities of Glenwood Springs and Rifle, and the Towns of Carbondale, New Castle, Parachute and Silt) to prepare the Final EIS. The BLM also consulted with the U.S. Fish and Wildlife Service (Service) informally and through a Biological Assessment; the Service issued a consultation memorandum on May 19, 2016, concurring with the BLM effects determinations of “may affect, but is not likely to adversely affect” for Ute ladies'-tresses orchid, Colorado hookless cactus and its critical habitat, Western yellow-billed cuckoo, Green-lineage cutthroat trout, Colorado pikeminnow and its critical habitat, Razorback sucker and its critical habitat, Humpback chub and its critical habitat, Bonytail and its critical habitat, and Canada lynx. In addition, the BLM notified the Colorado State Historic Preservation Office (SHPO) via an informational letter that pursuant to the 2014 Protocol agreement between the BLM Colorado and the SHPO, this undertaking does not exceed any of the review thresholds that would require SHPO concurrence, and that there will be no adverse effect to historic properties. Finally, the BLM began tribal consultation for the project in April 2014 when the field manager sent a scoping letter via certified mail to the Ute Indian Tribe (Uintah and Ouray Reservation), Ute Mountain Ute Tribe, and Southern Ute Indian Tribe. Consultation and outreach continued through April 22, 2016, when the BLM sent the tribes a letter that identified the Preferred Alternative and summarized cultural resource records within the area of potential effect (including potential Traditional Cultural Properties). The letter also offered the opportunity for comments or clarifications. The BLM will continue to offer opportunities for the tribes to identify properties of possible traditional religious and cultural importance that may be affected by the alternatives and to express their concerns throughout the project as stipulated under EO 13175, November 6, 2000.

Before including your address, phone number, email address, or other personal identifying information in your comment, you should be aware that your entire comment—including your personal identifying information—may be made publicly available at any time. While you can ask us in your comment to withhold your personal identifying information from public review, we cannot guarantee that we will be able to do so.

Authority: 40 CFR 1506.6, 40 CFR 1506.10

Ruth Welch,
BLM Colorado State Director.

[FR Doc. 2016-18542 Filed 8-4-16; 8:45 am]

BILLING CODE 4310-JB-P